GENERAL SERVICES ADMINISTRATION

[Notice-MG-2012-06; Docket No. 2012-0002; Sequence 26]

Office of Federal High-Performance Green Buildings; Green Building Advisory Committee; Notification of Upcoming Public Advisory Committee Meeting

AGENCY: Office of Government-Wide Policy, General Services Administration (GSA).

ACTION: Meeting Notice.

SUMMARY: Notice of this meeting is being provided according to the requirements of the Federal Advisory Committee Act, 5 U.S.C. App., 10(a)(2). This notice provides the schedule and agenda for the November 27, 2012, meeting of the Green Building Advisory Committee Meeting (the Committee). The meeting is open to the public and the site is accessible to individuals with disabilities.

DATES: Effective date: November 6, 2012.

Meeting date: The meeting will be held on Tuesday, November 27, 2012, starting at 9:00 a.m. eastern standard time and ending no later than 3:30 p.m.

FOR FURTHER INFORMATION CONTACT: Ken Sandler, Designated Federal Officer, Office of Federal High-Performance Green Buildings, Office of Government-wide Policy, General Services Administration, 1275 First Street NE., Room 633D, Washington, DC 20417, telephone 202-219-1121 (note: this is not a toll-free number). Additional information about the Committee is available online at http://www.gsa.gov/portal/content/121999.

SUPPLEMENTARY INFORMATION:

Procedures for Providing Public Comments: Contact Ken Sandler at 202-219-1121 to register to attend and to comment during the meeting's public comment period. Registered speakers/organizations will be allowed a maximum of 5 minutes each and will need to provide written copies of their presentations. Requests to comment at the meeting must be received by 5:00 p.m. eastern standard time on Wednesday, November 21, 2012. Written comments may be provided to Mr. Sandler at ken.sandler@gsa.gov until Friday, November 23, 2012.

Availability of Materials for the Meeting: Please contact Mr. Sandler at the email address above to register to attend this meeting and obtain meeting materials. Materials may also be accessed online at http://www.gsa.gov/portal/content/121999. To attend this meeting, please submit your full name, organization, email address, and phone number to Ken Sandler by 5:00 p.m. eastern standard time on Wednesday, November 21, 2012.

Background: The Green Building Advisory Committee provides advice to GSA as specified in Public Law 110-140, as a mandatory Federal advisory committee. Under this authority, the Committee will advise GSA on the rapid transformation of the Federal building portfolio to sustainable technologies and practices. The Committee's focus is primarily on reviewing strategic plans, products and activities of the Office of Federal High-Performance Green Buildings and providing advice regarding how the Office can most effectively accomplish its mission.

Agenda:

• Introductions & plans for today's meeting.

• Green Building Certification System Review update.

• Facilities Management Institute (www.FMI.gov).

• Knowledge Network.

• 30 minute public comment period for individuals pre-registered per instructions above. Each individual will be able to speak for no more than 5 minutes.

• Lunch.

• Business Case for Federal Green Building.

• 15 minute public comment period for individuals pre-registered per instructions above. Each individual will be able to speak for no more than 5 minutes.

• Closing comments.

Meeting Access: The Committee will convene its meeting at: US Access Board Conference Room, 1331 F Street NW., Suite 800, Washington, DC 20004. Persons attending meetings in the Access Board's conference space are requested to refrain from using perfume, cologne, and other fragrances (see http://www.access-board.gov/about/policies/fragrance.htm for more information).

Dated: November 1, 2012.
Janet Dobbs,
Deputy Associate Administrator, Office of Asset and Transportation Management, General Services Administration.

[FR Doc. 2012-27103 Filed 11-5-12; 8:45 am]

BILLING CODE 6820-27-P